DEPARTMENT OF VETERANS AFFAIRS

[OMB Control No. 2900-0399]

Agency Information Collection Activity Under OMB Review: Student Beneficiary Report—REPS (Restored Entitlement Program for Survivors)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 8, 2018.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0399” in any correspondence.

FOR FURTHER INFORMATION CONTACT: Cynthia Harvey-Pryor, Office of Quality, Privacy and Risk, Department of Veterans Affairs, 811 Vermont Avenue, Floor 5, Area 368, Washington, DC 20420, (202) 461-5870 or email cynthia.harvey-pryor@va.gov. Please refer to “OMB Control No. 2900-0399” in any correspondence.

SUPPLEMENTARY INFORMATION:

Authority: 42 U.S.C. 402; Executive Order 12436.

Title: Student Beneficiary Report—REPS (Restored Entitlement Program for Survivors) (VA Forms 21P-8938 & 21P-8938-1).

OMB Control Number: 2900-0399.

Type of Review: Revision of a currently approved collection.

Abstract: Restored Entitlement Program for Survivors (REPS) benefits are payable to certain surviving spouses and children of veterans who died in service prior to August 13, 1981 or who died as a result of a service-connected disability incurred or aggravated prior to August 13, 1981. Child beneficiaries over age 18 and under age 23 must be enrolled full-time in an approved post-secondary school.

Executive Order 12436 “Payment of Certain Benefits to Survivors of Persons Who Died In or As A Result of Military Service” (found at 42 U.S.C. 402 (Note)) directs VA administer the provisions of Public Law 97-377 Section 156. VA codified this authority at 38 CFR 3.812.

VBA uses VA Forms 21-8938 and 21-8938-1 to verify that a surviving child who is receiving REPS benefits based on schoolchild status is in fact enrolled full-time in an approved school and is otherwise eligible for continued benefits. VA Form 21-8938 is generated by VA's central computer system each March and sent to all student beneficiaries. If the completed form is not received by the end of May, the beneficiary is sent a system-generated due process letter with another VA Form 21-8938. VBA uses VA Form 21-8938-1 if another copy of the form is needed by a respondent.

The VA Form number is being changed to “21P-8941” to reflect Pension and Fiduciary Service's responsibility for the form.

An agency may not conduct or sponsor, and a person is not required to respond to a collection of information unless it displays a currently valid OMB control number. The Federal Register Notice with a 60-day comment period soliciting comments on this collection of information was published at 82 FR 45363 on September 28, 2017.

Affected Public: Individuals and households.

Estimated Annual Burden: 1,767 hours.

Estimated Average Burden per Respondent: 20 minutes.

Frequency of Response: Annually.

Estimated Number of Respondents: 5,300.

By direction of the Secretary.
Cynthia Harvey-Pryor,
Department Clearance Officer, Office of Quality, Privacy and Risk, Department of Veterans Affairs.

[FR Doc. 2017-26315 Filed 12-6-17; 8:45 am]

BILLING CODE 8320-01-P